DEPARTMENT OF THE TREASURY

Office of the Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless the information collection displays a currently valid OMB control number. The OCC is soliciting comment concerning its renewal, without change, of an information collection titled “Disclosure of Financial and Other Information by National Banks—12 CFR 18.” The OCC also gives notice that it has sent the information collection to OMB for review and approval.

DATES: You should submit your comments to the OCC and the OMB Desk Officer by May 19, 2004.

ADDRESSES: You should direct your comments to:

OCC: Communications Division, Office of the Comptroller of the Currency, Public Reference Room, Mailstop 1-5, Attention: 1557-0182, 250 E Street, SW., Washington, DC 20219. You are encouraged to submit your comments by facsimile transmission or electronic mail. Comments may be sent by facsimile transmission to (202) 874-4448, or by electronic mail to regs.comments@occ.treas.gov. You can inspect and photocopy the comments at the OCC's Public Reference Room, 250 E Street, SW., Washington, DC 20219. You can make an appointment to inspect the comments by calling (202) 874-5043. Additionally, you may request copies of comments via electronic mail or CD-ROM by contacting the OCC's Public Reference Room at http://www.foia.pa@occ.treas.gov.

OMB: Mark Menchik, OMB Desk Officer, Control Number 1557-0182, Office of Information and Regulatory Affairs, Office of Management and Budget, New Executive Office Building, Room 10235, Washington, DC 20503. Alternatively, you may send a comment by facsimile transmission to (202) 395-6974 or by electronic mail to mmenchik@omb.eop.gov.

FOR FURTHER INFORMATION CONTACT: You can request additional information or a copy of the information collection from John Ference, Acting Clearance Officer, or Camille Dixon, (202) 874-5090, Legislative and Regulatory Activities Division, Office of the Comptroller of the Currency, 250 E Street, SW., Washington, DC 20219.

SUPPLEMENTARY INFORMATION: The OCC is proposing to extend OMB approval of the following information collection:

Title: Disclosure of Financial and Other Information by National Banks—12 CFR 18.

OMB Number: 1557-0182.

Form Number: None.

Abstract: This submission covers 12 CFR Part 18, an existing regulation, and involves no change to the regulation or to the information collections embodied in the regulation. The OCC requests only that OMB renew its approval of the information collections in the current regulation.

The information collections contained in part 18 are found in 12 CFR 18.4(c) and 18.8. Section 18.4(c) permits a national bank to prepare an optional narrative for inclusion in its annual disclosure statement. Section 18.8 requires that a national bank promptly furnish materials in response to a request.

This disclosure of information is needed to facilitate informed decision making by existing and potential customers and investors by improving public understanding of and confidence in, the financial condition of an individual national bank. Depositors, security holders, and the general public use the information in evaluating the condition of, and deciding whether to do business with, a particular national bank. Disclosure and increased public knowledge complements OCC's efforts to promote the safety and soundness of national banks and the national banking system.

Type of Review: Extension, without change, of a currently approved collection.

Affected Public: Businesses or other for-profit.

Estimated Number of Respondents: 2,150.

Estimated Total Annual Responses: 2,150.

Frequency of Response: Annual.

Estimated Total Annual Burden: 1,075 hours.

Comments: The OCC has a continuing interest in the public's opinion regarding collections of information. All comments will become a matter of public record. The OCC received no comments in response to its initial Federal Register notice (69 FR 390; January 5, 2004) regarding renewal of this information collection. Nevertheless, members of the public still are invited to submit comments regarding any aspect of this collection of information. Comments are invited specifically on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: April 13, 2004.
Mark Tenhundfeld,
Assistant Director, Legislative & Regulatory Activities Division.

[FR Doc. 04-8746 Filed 4-16-04; 8:45 am]

BILLING CODE 4810-33-P